NATIONAL AERONAUTICS AND SPACE ADMINISTRATION

48 CFR Part 1830

Cost Accounting Standards Waivers

AGENCY: National Aeronautics and Space Administration (NASA).

ACTION: Interim rule adopted as final without changes.

SUMMARY: This is a final rule amending the NASA FAR Supplement (NFS) to identify who within NASA has the authority to approve Cost Accounting Standards waivers.

EFFECTIVE DATE: June 1, 2001.

FOR FURTHER INFORMATION CONTACT: Mr. Louis Becker, NASA Headquarters, Office of Procurement, Contract Management Division (Code HK), Washington, DC 20546, telephone: (202) 358-4593, email: lbecker@hq.nasa.gov.

SUPPLEMENTARY INFORMATION:

A. Background

NASA is adopting as final, without change, the interim rule published in the August 11, 2000 Federal Register (65 FR 49205-49206). The interim rule identified the Associate Administrator for Procurement as the senior policymaking official delegated the authority to approve Cost Accounting Standards (CAS) waivers for NASA. The NASA interim rule was issued in response to a FAR interim rule published in the June 6, 2000 Federal Register (65 FR 36028-36030) that authorized the heads of executive agencies to approve CAS waivers and allowed for this authority to be delegated to an official not below the senior policymaking level in the agency. The FAR interim rule resulted from Section 802 of the National Defense Authorization Act for Fiscal Year 2000 (Pub. L. 106-65) which made several changes to CAS, including waivers. The FAR interim rule was adopted as a final rule without change (66 FR 2136-2137, January 10, 2001). No comments were received in response to the NASA interim rule.

B. Regulatory Flexibility Act

NASA certifies that this final rule will not have a significant economic impact on a substantial number of small business entities under the Regulatory Flexibility Act (5 U.S.C. 601 et seq.) because this rule pertains to Cost Accounting Standards from which small businesses are exempt.

C. Paperwork Reduction Act

The Paperwork Reduction Act does not apply because the changes to the NFS do not impose recordkeeping or information collection requirements, or collection of information from offerors, contractors, or members of the public which require the approval of the Office of Management and Budget under 44 U.S.C. 3501, et seq.

List of Subjects in 48 CFR Part 30

Government procurement.

Tom Luedtke,
Associate Administrator for Procurement.

Interim Rule Adopted as Final Without Changes

Accordingly, NASA adopts the interim rule amending 48 CFR part 1830, which was published in the Federal Register at 65 FR 49205-49206, August 11, 2000, as a final rule without change.

Authority: 42 U.S.C. 2473(c)(1).

[FR Doc. 01-13810 Filed 5-31-01; 8:45 am]

BILLING CODE 7510-01-P